DEPARTMENT OF TRANSPORTATION

Federal Aviation Administration

Notice of Intent To Rule on Application 04-03-U-00-PIT To Use the Revenue From a Passenger Facility Charge (PFC) at Pittsburgh International Airport, Pittsburgh, PA

AGENCY: Federal Aviation Administration (FAA), DOT.

ACTION: Notice of intent to rule on application.

SUMMARY: The FAA proposes to rule and invites public comment on the application to use the revenue from a PFC at Pittsburgh International Airport under the provisions of the Aviation Safety and Capacity Expansion Act of 1990 (Title IX of the Omnibus Budget Reconciliation Act of 1990) (Pub. L. 101-508) and part 158 of the Federal Aviation Regulations (14 CFR part 158).

DATES: Comments must be received on or before October 29, 2004.

ADDRESSES: Comments on this application may be mailed or delivered in triplicate to the FAA at the following address: Ms. Lori Ledebohm, PFC Contact, Harrisburg Airports District Office, 3905 Hartzdale Drive, Suite 508, Camp Hill, PA 17011.

In addition, one copy of any comments submitted to the FAA must be mailed or delivered to John R. Serpa, of the Allegheny County Airport Authority at the following address: Allegheny County Airport Authority, P.O. Box 12370, Pittsburgh, Pennsylvania 15231-0370.

Air carriers and foreign air carriers may submit copies of written comments previously provided to the Allegheny County Airport Authority under section 158.23 of part 158.

FOR FURTHER INFORMATION CONTACT: Ms. Lori Ledebohm, PFC Contact, Harrisburg Airports District Office, 3905 Hartzdale Dr., Suite 508, Camp Hill, Pennsylvania 17011, 717-730-2835. The application may be reviewed in person at this same location.

SUPPLEMENTARY INFORMATION: The FAA proposes to rule and invites public comment on the application to use the revenue from a PFC at Pittsburgh International Airport under the provisions of the Aviation Safety and Capacity Expansion Act of 1990 (Title IX of the Omnibus Budget Reconciliation Act of 1990) (Pub. L. 101-508) and part 158 of the Federal Aviation Regulations (14 CFR part 158).

On August 26, 2004, the FAA determined that the application to use the revenue from a PFC submitted by Allegheny County Airport Authority was substantially complete within the requirements of section 158.25 of part 158. The FAA will approve or disapprove the application, in whole or in part, no later than November 24, 2004.

The following is a brief overview of the application.

PFC Application No.: 04-03-U-00-PIT.

Level of the proposed PFC: $3.00.

Proposed charge effective date: October 1, 2001.

Proposed charge expiration date: October 1, 2006.

Total estimated PFC revenue: $7,834,933.

Brief description of proposed project(s):—Improve Runway Safety Areas for Runways 10L-28R and 10R-28L.

Class or classes of air carriers which the public agency has requested not be required to collect PFCs:—Non-schedules, on-demand air carriers filing DOT Form 1800-31.

Any person may inspect the application in person at the FAA office listed above under FOR FURTHER INFORMATION CONTACT and at the FAA regional airports office located at: Eastern Region, Airports Division, AEA-610, 1 Aviation Plaza, Jamaica, New York 11434.

In addition, any person may, upon request, inspect the application, notice and other documents germane to the application in person at the Allegheny County Airport Authority.

Dated: Issued in Camp Hill, PA on September 22, 2004.
Lori Ledebohm,
PFC Contact, Harrisburg Airports District Office, Eastern Region.

[FR Doc. 04-21864 Filed 9-21-04; 8:45 am]

BILLING CODE 4910-13-M